ENVIRONMENTAL PROTECTION AGENCY

40 CFR Part 86

[AMS-FRL-7401-9]

RIN 2060-AJ90

Control of Emissions From Spark Ignition Marine Vessels and Highway Motorcycles; Extension of Comment Period

AGENCY: Environmental Protection Agency (EPA).

ACTION: Proposed rule; extension of comment period.

SUMMARY: The Environmental Protection Agency is extending the comment period for a proposed rule addressing new emission standards for spark-ignition marine vessels and highway motorcycles. The proposed rule was published in the Federal Register on August 14, 2002 (67 FR 53050). The comment period for the proposed rule is extended by 60 days and thus will end on January 7, 2003.

DATES: Comments on the proposed rule will be accepted through January 7, 2003.

ADDRESSES: Comments: You may send written comments in paper form or by e-mail. We must receive them by November 8, 2002. Send paper copies of written comments (in duplicate if possible) to the contact person listed below. You may also submit comments via e-mail to MCNPRM@epa.gov. In your correspondence, refer to Docket A-2000-02. Docket: Materials relevant to this rulemaking are contained in Public Docket Number A-2000-02 at the following address: EPA Docket Center (EPA/DC), Public Reading Room, Room B102, EPA West Building, 1301 Constitution Avenue, NW., Washington, DC. The EPA Docket Center Public Reading Room is open from 8:30 a.m. to 4:30 p.m., Monday through Friday, except on government holidays. You can reach the Reading Room by telephone at (202) 566-1742, and by facsimile at (202) 566-1741. The telephone number for the Air Docket is (202) 566-1742. You may be charged a reasonable fee for photocopying docket materials, as provided in 40 CFR part 2.

FOR FURTHER INFORMATION CONTACT: Margaret Borushko, U.S. EPA, National Vehicle and Fuels Emission Laboratory, 2000 Traverwood, Ann Arbor, MI 48105; Telephone (734) 214-4334; FAX: (734) 214-4816; e-mail: borushko.margaret@epa.gov.

SUPPLEMENTARY INFORMATION: EPA published a notice of proposed rulemaking (NPRM) in the Federal Register of August 14, 2002 (67 FR 53049). That document included a deadline for written comments of November 8, 2002. Since that time, we have received requests for an extension of that deadline to allow additional time to review and comment on the proposed emission standards and related requirements. As a result of such requests, EPA is extending the comment period on the proposed rule to January 7, 2003.

The requests received by the EPA regarding an extension of the comment period have several common concerns. These common concerns involve issues such as: impact on small businesses; technical feasibility of the standards; cost of the standards; the contribution of motorcycles and boats to pollution; and impacts on performance and safety. The EPA continues to study and evaluate these issues and many others, and will consider all relevant information presented by stakeholders. The extended comment period allows stakeholders an increased opportunity to participate in the regulatory process by providing additional information, preferably with supporting data, regarding these and other issues to the EPA.

In the NPRM we requested comment on promulgating standards that would require the use of low permeability fuel tanks and fuel hoses on highway motorcycles. We did not, however, specifically propose such requirements, and although the NPRM preamble language detailed what these requirements might look like and draft regulatory language was placed in the public docket, no proposed regulatory language was included in the NPRM. However, since the NPRM was published, EPA has finalized regulations for recreational vehicles that include requirements for control of permeation emissions from fuel tanks and hoses. If we were to finalize requirements for permeation control from highway motorcycles, it is highly likely that the regulations would be modeled after those in the recently finalized recreational vehicle regulations. Interested parties wishing more detail on the type of regulatory program EPA is considering for highway motorcycle permeation control are encouraged to review the recreational vehicle requirements. The final rule for recreational vehicles is available on the EPA web site at http://www.epa.gov/otaq/recveh.htm. When the recreational vehicle final rule is published in the Federal Register we will place a copy of it in Docket A-2000-02 so that interested parties may review it during the extended comment period.

Additionally, at the public hearing on the proposed motorcycle provisions testimony was presented that encouraged EPA to ensure that the proposed emission standards be applicable to engine manufacturers as well as motorcycle manufacturers. We request additional comment on this issue. Although the current federal requirements do not specifically apply to motorcycle engines and motorcycle engine manufacturers, the California requirements with which we proposed to harmonize clearly do apply to these entities, and at least one engine manufacturer is currently certifying engines to the California and federal requirements.

The testimony from the public hearings and other materials have been placed in the docket since we published the proposal, and the hearing transcripts have been placed in the docket and on the EPA Office of Transportation and Air Quality web site. Additional information will be placed in the docket as it becomes available. We therefore encourage interested parties to stay abreast of docketed materials and to periodically check the following web pages for updates:

Highway Motorcycles

http://www.epa.gov/otaq/roadbike.htm.

Gasoline Boats and Personal Watercraft

http://www.epa.gov/otaq/marinesi.htm.

Dated: October 22, 2002.
Robert Brenner,
Acting Assistant Administrator, Office of Air and Radiation.

[FR Doc. 02-27616 Filed 10-29-02; 8:45 am]

BILLING CODE 6560-50-P